DEPARTMENT OF STATE

[Public Notice 3648]

Designation of Countries of Particular Concern Under the International Religious Freedom Act

Pursuant to section 408(a) of the International Religious Freedom Act of 1998, notice is hereby given that the Secretary of State, under authority delegated by the President, has re-designated the following countries as “countries of particular concern” under section 402(b) of the Act for having engaged in or tolerated particularly severe violations of religious freedom: Burma, China, Iran, Iraq, Sudan.

Dated: April 16, 2001.
Thomas F. Farr,
Office Director for International Religious Freedom, Bureau of Democracy, Human Rights and Labor U.S. Department of State.

[FR Doc. 01-10833 Filed 4-30-01; 8:45 am]

BILLING CODE 4710-18-P